DEPARTMENT OF ENERGY

Federal Energy Regulatory Commission

[Project No. 2790-074]

Boott Hydropower, LLC; Notice Soliciting Scoping Comments

Take notice that the following hydroelectric application has been filed with the Commission and is available for public inspection.

a. Type of Application: New Major License.

b. Project No.: 2790-074.

c. Date Filed: April 30, 2021.

d. Applicant: Boott Hydropower, LLC (Boott).

e. Name of Project: Lowell Hydroelectric Project (project).

f. Location: On the Merrimack River, in Middlesex County, Massachusetts and Hillsborough County, New Hampshire. The project does not occupy federal land.

g. Filed Pursuant to: Federal Power Act, 16 U.S.C. 791(a)-825(r).

h. Applicant Contact: Kevin Webb, Licensing Manager, Boott Hydropower, LLC, 670 N Commercial Street, Suite 204, Manchester, NH 03101; Telephone (978) 935-6039; or email at kwebb@centralriverspower.com.

i. FERC Contact: Amy Chang at (202) 502-8250, or amy.chang@ferc.gov.

j. Deadline for filing scoping comments: March 3, 2022.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Lowell Hydroelectric Project (P-2790-074).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. The application is not ready for environmental analysis at this time.

l. The existing project consists of: (1) The 1,093-foot-long, 15-foot-high Pawtucket Dam; (2) a 720-acre impoundment with a normal maximum water surface elevation of 92.2 feet National Geodetic Vertical Datum of 1929 (NGVD); (3) the 5.5-mile-long Northern and Pawtucket Canal System that includes several small dams and gatehouses; (4) generating facilities, including: (a) One powerhouse facility located on the mainstem of the Merrimack River (E.L. Field Powerhouse), with a total authorized installed capacity of 15.012 MW and a 440-foot-long tailrace to the Merrimack River; and (b) four power stations located along the canal system (Hamilton Power Station, Assets Power Station, Bridge Street Power Station, and John Street Power Station), with a total combined authorized capacity of 5.152 MW; (5) an approximately 2-mile-long, 13.8-kilovolt submarine transmission line that connects the project generating facilities to the regional electric grid; (6) upstream and downstream fish passage facilities; (7) a visitor center; and (8) appurtenant facilities.

The project bypasses approximately two miles of the Merrimack River, including a 0.7-mile-long bypassed reach from the Pawtucket Dam to the E.L. Field Powerhouse tailrace and an approximately 1.3-mile-long bypassed reach from the E.L. Field Powerhouse tailrace to the confluence of the Merrimack and Concord Rivers.

The current license requires Boott to release an instantaneous minimum flow of 1,990 cfs or inflow, whichever is less, downstream of the project. Boott provides the minimum flow through spillage over the Pawtucket Dam, discharge from the project turbines, and the fish passage facilities.

In the relicense application, Boott proposes to decommission the four power stations located along the Lowell downtown canal system (Hamilton Power Station, Assets Power Station, Bridge Street Power Station, and John Street Power Station). In addition, Boott proposes to remove the canal system from the project boundary, except for a 2,200-foot-long section of the Northern Canal; and a 1,600-foot-long portion of the Pawtucket Canal.

Boott proposes to continue to operate the project in run-of-river mode using an automatic pond level control system. Boott proposes to provide a minimum flow of 500 cfs to the bypassed reach via the Pawtucket Dam fish ladder during the fish passage season (typically May 1-July 15), and 100 cfs outside of the fish passage season. Boott also proposes to replace the existing fish lift at the E.L. Field Powerhouse with a fish ladder to pass migratory fish from the E.L. Field Powerhouse tailrace to the bypassed reach, which would provide fish with access to the existing fish ladder in the bypassed reach that is used to pass fish over the Pawtucket Dam. Boott proposes to continue to operate the gates at the Guard Lock and Gates facility to provide flows to the Lowell downtown canal system. Boott proposes to continue to maintain canal structures and facilities, canal water levels, and flows in line with current agreements with NPS and other stakeholders. Finally, Boot proposes to develop several plans, including a fishway operation and management plan, a gaging plan, a recreation access and facilities management plan, a historic properties management plan, and a decommissioning plan for each of the four downtown power stations.

m. In addition to publishing the full text of this document in the Federal Register, the Commission provides all interested persons an opportunity to view and/or print the contents via the internet through the Commission's Home Page (http://www.ferc.gov) using the “eLibrary” link. Enter the docket number excluding the last three digits in the docket number field to access the document. For assistance, contact FERC at FERCOnlineSupport@ferc.gov or call toll-free, (866) 208-3676 or TYY, (202) 502-8659.

n. You may also register online at https://ferconline.ferc.gov/FERCOnline.aspx to be notified via email of new filings and issuances related to this or other pending projects. For assistance, contact FERC Online Support.

o. Scoping Process.

Commission staff will prepare either an environmental assessment (EA) or an Environmental Impact Statement (EIS) that describes and evaluates the probable effects, if any, of the licensee's proposed action and alternatives. The EA or EIS will consider environmental impacts and reasonable alternatives to the proposed action. The Commission's scoping process will help determine the required level of analysis and satisfy the NEPA scoping requirements, irrespective of whether the Commission prepares an EA or an EIS. At this time, we do not anticipate holding on-site scoping meetings. Instead, we are soliciting written comments and suggestions on our updated list of issues and alternatives to be addressed in the NEPA document, as described in scoping document 3 (SD3), issued February 1, 2022.

Copies of the SD3 outlining the subject areas to be addressed in the NEPA document were distributed to the parties on the Commission's mailing list and the applicant's distribution list. Copies of SD3 may be viewed on the web at http://www.ferc.gov using the “eLibrary” link. Enter the docket number excluding the last three digits in the docket number field to access the document. For assistance, call 1-866-208-3676 or for TTY, (202) 502-8659.

Dated: February 1, 2022.
Kimberly D. Bose,
Secretary.

[FR Doc. 2022-02503 Filed 2-4-22; 8:45 am]

BILLING CODE 6717-01-P